DEPARTMENT OF COMMERCE

International Trade Administration

[C-533-825]

Final Results of Countervailing Duty Administrative Review: Polyethylene Terephthalate Film, Sheet, and Strip from India

AGENCY: Import Administration, International Trade Administration, Department of Commerce.

ACTION: Notice of Final Results of Countervailing Duty Administrative Review.

SUMMARY: On April 8, 2004, the Department of Commerce (the Department) published in the Federal Register its preliminary results of administrative review of the countervailing duty order on polyethylene terephthalate film, sheet, and strip from India for the period October 22, 2001, through December 31, 2002.¹ See Notice of Preliminary Results of Countervailing Duty Administrative Review: Polyethylene Terephthalate Film, Sheet, and Strip from India, 69 FR 18542 (April 8, 2004) (Preliminary Results). The Department has now completed this administrative review in accordance with section 751(a) of the Tariff Act of 1930, as amended (the Act).

¹ For the purposes of these final results, we have analyzed data for the period January 1, 2001, through December 31, 2001, to determine the subsidy rate for exports of subject merchandise made during the period of review covering 2001. In addition, we have analyzed data for the period January 1, 2002, through December 31, 2002, to determine the subsidy rate for exports during that period. Further, we are using the subsidy rate calculated for calendar year 2002 to establish the cash deposit rate for exports of subject merchandise subsequent to the issuance of the final results of this administrative review.

Based on information received since the Preliminary Results and our analysis of the comments received, the Department has revised the net subsidy rate for Polyplex Corporation Ltd. (Polyplex), as discussed in the “Memorandum from Jeffery A. May, Deputy Assistant Secretary, to Joseph A. Spetrini, Acting Assistant Secretary for Import Administration concerning the Final Results of Countervailing Duty Administrative Review: Polyethylene Terephthalate Film, Sheet, and Strip from India” (Decision Memorandum) dated concurrently with this notice and hereby adopted by this notice. The final net subsidy rate for the reviewed company is listed below in the section entitled “Final Results of Review.”

EFFECTIVE DATE: (Insert date of publication in the Federal Register.)

FOR FURTHER INFORMATION CONTACT: Jeff Pedersen at (202) 482-2769 or Howard Smith at (202) 482-5193, Office of AD/CVD Enforcement IV, Import Administration, U.S. Department of Commerce, 14th Street and Constitution Avenue, NW, Washington, DC 20230.

SUPPLEMENTARY INFORMATION:

Background

On April 8, 2004, the Department published in the Federal Register its Preliminary Results. We invited interested parties to comment on the results. On May 10, 2004, we received a case brief from Polyplex, the respondent in this case. On May 18, 2004, we received a rebuttal brief from Dupont Teijin Films, Mitsubishi Polyester Film of America, Toray Plastics (America) and SKC America, Inc, petitioners in this case. A public hearing was held at the Department on July 22, 2004.

Pursuant to 19 CFR 351.213(b), this review covers only those producers or exporters of the subject merchandise for which a review was specifically requested. Accordingly, this review covers Polyplex. This review covers fourteen programs.

Scope of the Review

For purposes of this review, the products covered are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00. HTSUS subheadings are provided for convenience and customs purposes. The written description of the scope of this proceeding is dispositive.

Analysis of Comments Received

All issues raised in the case and rebuttal briefs by parties to this review are addressed in the Decision Memorandum, which is hereby adopted by this notice. A list of the issues contained in the Decision Memorandum is attached to this notice as Appendix I. Parties can find a complete discussion of all issues raised in this review and the corresponding recommendations in this public memorandum, which is on file in the Central Records Unit in room B-099 of the Main Commerce Building. In addition, a complete version of the Decision Memorandum can be accessed directly on the World Wide Web at http://ia.ita.doc.gov, under the heading “Federal Register Notices.” The paper copy and electronic version of the Decision Memorandum are identical in content.

Final Results of Review

In accordance with 19 CFR 351.221(b)(5), we calculated an individual subsidy rate for the producer/exporter, Polyplex, subject to this review. For the year 2001, we determine the net subsidy ad valorem rate for Polyplex is 20.62 percent, and for the year 2002, we determine the net subsidy ad valorem rate is 19.63 percent.

We will instruct U.S. Customs and Border Protection (CBP) to assess countervailing duties as indicated above. The Department will instruct CBP to collect cash deposits of estimated countervailing duties in accordance with the assessment rate calculated for 2002 as detailed above, of the f.o.b. invoice price on all shipments of the subject merchandise from the producer/exporter under review, entered, or withdrawn from warehouse, for consumption on or after the date of publication of the final results of this administrative review.

Because the Uruguay Round Agreements Act (URAA) replaced the general rule in favor of a country-wide rate with a general rule in favor of individual rates for investigated and reviewed companies, the procedures for establishing countervailing duty rates, including those for non-reviewed companies, are now essentially the same as those in antidumping cases, except as provided for in section 777A(e)(2) of the Act. The requested review will normally cover only those companies specifically named. See 19 CFR 351.213(b). Pursuant to 19 CFR 351.212(c), for all companies for which a review was not requested, duties must be assessed at the cash deposit rate, and cash deposits must continue to be collected, at the rate previously ordered. As such, the countervailing duty cash deposit rate applicable to a company can no longer change, except pursuant to a request for a review of that company. See Federal-Mogul Corporation and The Torrington Company v. United States, 822 F. Supp. 782 (CIT 1993) and Floral Trade Council v. United States, 822 F. Supp. 766 (CIT 1993). Therefore, the cash deposit rates for all companies except those covered by this review will be unchanged by the results of this review.

We will instruct CBP to continue to collect cash deposits for non-reviewed companies at the most recent company-specific or country-wide rate applicable to the company. Accordingly, the cash deposit rates that will be applied to non-reviewed companies covered by this order will be the rate for that company established in the most recently completed administrative proceeding conducted under the URAA. See Notice of Amended Final Determination and Notice of Countervailing Duty Orders: Certain Hot-Rolled Carbon Steel Flat Products from India and Indonesia, 66 FR 60198 (December 3, 2001). This rate shall apply to all non-reviewed companies until a review of a company assigned this rate is requested. In addition, for the period October 22, 2001, through December 31, 2002, the assessment rates applicable to all non-reviewed companies covered by this order are the cash deposit rates in effect at the time of entry.

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are issued and published in accordance with sections 751(a)(1) and 777(i)(1) of the Act.

Dated: August 6, 2004.
Joseph A. Spetrini,
Acting Assistant Secretary for Import Administration.

Appendix I - Issues and Decision Memorandum

I. LIST OF ISSUES

Comment 1: The period of review

Comment 2: Allocation of the benefits of the 80 HHC tax exemption

Comment 3: Benchmark used in assessing benefits of pre-shipment export financing

Comment 4: Benefits of post-shipment export financing

Comment 5: Partial export obligations under the EPCGS program

Comment 6: Program-wide change to 80 HHC tax exemption

Comment 7: Consideration of deemed exports under the EPCGS program

Comment 8: Certain license of EPCGS program

Comment 9: Calculation of benefits of DEPS program

Comment 10: Total sales under the 80 HHC tax exemption

II. BACKGROUND INFORMATION AND SUBSIDIES VALUATION INFORMATION

III. SUBSIDIES VALUATION INFORMATION

IV. ANALYSIS OF PROGRAMS

A. Programs Conferring Subsidies

1. Pre-shipment and Post-shipment Export Financing

2. Duty Entitlement Passbook Scheme (DEPS)

3. Export Promotion Capital Goods Scheme (EPCGS)

4. Income Tax Exemption Scheme 80 HHC

5. Capital Subsidy

6. Sales Tax Incentives

B. Programs Determined to Be Not Used

1. The Sale and Use of Special Import Licenses (SILs) for Quality and SILs for Export Houses, Trading Houses, Star Trading Houses, or Superstar Trading Houses (GOI Program)

2. Exemption of Export Credit from Interest Taxes

3. Loan Guarantees from the GOI

4. Benefits for Export Processing Zones/Export Oriented Units (EPZs/EOUs)

5. Electricity Duty Exemption Scheme (SOM)

6. Capital Incentive Schemes (SOM and SUP Program)

7. Waiving of Interest on Loan by SICOM Limited (SOM Program)

8. Infrastructure Assistance Schemes (State of Gujarat Program)

V. ANALYSIS OF COMMENTS

[FR Doc. 04-18814 Filed 8-16-04; 8:45 am]

BILLING CODE 3510-DS-S